DEPARTMENT OF COMMERCE

National Oceanic and Atmospheric Administration

[RTID 0648-XA477]

New England Fishery Management Council; Public Meeting

AGENCY: National Marine Fisheries Service (NMFS), National Oceanic and Atmospheric Administration (NOAA), Commerce.

ACTION: Notice of public meeting.

SUMMARY: The New England Fishery Management Council (Council) is scheduling a public meeting of its Groundfish Committee to consider actions affecting New England fisheries in the exclusive economic zone (EEZ). Recommendations from this group will be brought to the full Council for formal consideration and action, if appropriate.

DATES: This webinar will be held on Tuesday, September 22, 2020 at 9 a.m. Webinar registration URL information: https://attendee.gotowebinar.com/register/3381405484073852176.

ADDRESSES: The meeting will be held via webinar.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review public comments on Amendment 23: Groundfish Monitoring and the summary document prepared by the Groundfish Plan Development Team (PDT) and make final recommendations on preferred alternatives. They will also discuss draft alternatives on Framework Adjustment 61: Specifications/Management Measures—developed by the PDT focusing on (1) white hake rebuilding plan options, (2) 2021 U.S./Canada total allowable catches of Eastern Georges Bank (GB) cod, Eastern GB haddock, and GB yellowtail flounder and (3) other measures. The Committee will discuss possible groundfish priorities for 2021 including a follow-up discussion on the Groundfish Sector Program Catch Share Review. They will also make recommendations to the Groundfish Committee. The Committee will review PDT, Groundfish Advisory Panel, and Transboundary Management Guidance Committee recommendations and make recommendations to the Council. They will also continue discussion of the Conservation Law Foundation petition for rulemaking on Atlantic cod, and discuss other business as necessary.

Although non-emergency issues not contained in this agenda may come before this group for discussion, those issues may not be the subject of formal action during these meetings. Action will be restricted to those issues specifically listed in this notice and any issues arising after publication of this notice that require emergency action under section 305(c) of the Magnuson-Stevens Act, provided the public has been notified of the Council's intent to take final action to address the emergency

Special Accommodations

This meeting is physically accessible to people with disabilities. Requests for sign language interpretation or other auxiliary aids should be directed to Thomas A. Nies, Executive Director, at (978) 465-0492, at least 5 days prior to the meeting date. This meeting will be recorded. Consistent with 16 U.S.C. 1852, a copy of the recording is available upon request.

Authority: 16 U.S.C. 1801 et seq.

Dated: September 3, 2020.
Tracey L. Thompson,
Acting Deputy Director, Office of Sustainable Fisheries, National Marine Fisheries Service.

[FR Doc. 2020-19916 Filed 9-8-20; 8:45 am]

BILLING CODE 3510-22-P